DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of persons and a vessel that have been placed on OFAC's Specially Designated Nationals and Blocked Persons List (SDN List) based on OFAC's determination that one or more applicable legal criteria were satisfied. All property and interests in property subject to U.S. jurisdiction of these persons and a vessel are blocked, and U.S. persons are generally prohibited from engaging in transactions with them.

DATES: See SUPPLEMENTARY INFORMATION section for effective date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On December 20, 2023, OFAC determined that the property and interests in property subject to U.S. jurisdiction of the following persons are blocked under the relevant sanctions authority listed below.

Entities

1. BELLATRIX ENERGY LIMITED, Unit 601, 6/F of Mill 5 of the Mills, 45 Pak Tin Par Street, Hong Kong, China; Organization Established Date 09 Dec 2020; Registration Number 3000934 (Hong Kong) [RUSSIA-EO14024].

Designated pursuant to section 1(a)(i) of Executive Order 14024 of April 15, 2021, “Blocking Property With Respect To Specified Harmful Foreign Activities of the Government of the Russian Federation,” 86 FR 20249, 3 CFR, 2021 Comp., p. 542 (Apr. 15, 2021) (E.O. 14024) for operating or having operated in the marine sector of the Russian Federation economy.

2. COVART ENERGY LIMITED, 5/F, Lee Garden Three, 1 Sunning Road, Causeway Bay, Hong Kong, China; Ofis 417, Ul. Maksima Gorkogo 276, Rostov-na-Donu 344019, Russia; Organization Established Date 08 Nov 2019; Identification Number IMO 6357849; Registration Number 2890985 (Hong Kong) [RUSSIA-EO14024].

Designated pursuant to section 1(a)(i) of E.O. 14024 for operating or having operated in the marine sector of the Russian Federation economy.

3. SUN SHIP MANAGEMENT D LTD (a.k.a. SCF MANAGEMENT SERVICES DUBAI LTD), PO Box 507065, Unit OT 17-32, Central Park Towers, Office Tower, Dubai, United Arab Emirates; Organization Established Date 02 Aug 2012; UAE Identification 1244 (United Arab Emirates); Registration Number 11440513 (United Arab Emirates) [RUSSIA-EO14024].

Designated pursuant to section 1(a)(vii) of Executive Order 14024 for being owned or controlled by, or having acted or purported to act for or on behalf of, directly or indirectly, the Government of the Russian Federation.

4. VOLITON DMCC (a.k.a. PETROKIM TRADING MIDDLE EAST AND ASIA DMCC), Unit No: R29-33, Reef Tower, Plot No: JLT-PH2-O1A, Jumeirah Lakes Towers, Dubai, United Arab Emirates; Organization Established Date 22 May 2018; License DMCC-476388 (United Arab Emirates); Registration Number 124420 (United Arab Emirates) [RUSSIA-EO14024].

Designated pursuant to section 1(a)(i) of E.O. 14024 for operating or having operated in the marine sector of the Russian Federation economy.

On December 20, 2023, OFAC also identified the following vessel as property in which a blocked person has an interest, under the relevant sanctions authority listed below:

Vessels

1. SANAR 15 (UALW) Oil Products Tanker Russia flag; Vessel Registration Identification IMO 9777670; MMSI 273375360 (vessel) [RUSSIA-EO14024] (Linked To: COVART ENERGY LIMITED).

Identified as property in which Covart Energy Limited, a person whose property and interests in property are blocked pursuant to E.O. 14024, has an interest.

Dated: December 20, 2023.
Bradley T. Smith,
Director, Office of Foreign Assets Control, U.S. Department of the Treasury.

[FR Doc. 2023-28426 Filed 12-22-23; 8:45 am]

BILLING CODE 4810-AL-P